ENVIRONMENTAL PROTECTION AGENCY

[FRL—8222-5]

Science Advisory Board (SAB) Staff Office; Notification of Multiple Upcoming SAB Hypoxia Advisory Panel Teleconferences

AGENCY: Environmental Protection Agency (EPA).

ACTION: Notice.

SUMMARY: The EPA Science Advisory Board (SAB) Staff Office announces seven upcoming public teleconferences of the SAB Hypoxia Advisory Panel Subgroups.

DATES: The dates for the seven teleconferences are:

(1) SAB Hypoxia Advisory Panel Subgroup 1 Characterization of the Causes Hypoxia—October 17, 2006 from 2 to 5 p.m. Eastern Standard Time, and November 15, 2006 from 9 a.m. to 12 p.m. Eastern Standard Time;

(2) SAB Hypoxia Advisory Panel Subgroup 2 Characterization of Nutrient Fate, Transport, and Sources — October 16 and November 21, 2006 from 10 a.m. to 1 p.m. Eastern Standard Time; and

(3) SAB Hypoxia Advisory Panel Subgroup 3 Scientific Basis for Goals and Management Options — October 6, October 30, and November 27, 2006 1 to 4 p.m. Eastern Standard Time.

FOR FURTHER INFORMATION CONTACT: Members of the public who wish to obtain the teleconference call-in numbers and access codes to participate in the teleconferences may contact the following individuals.

(1) For the SAB Hypoxia Advisory Panel Subgroup 1—Characterization of the Causes of Hypoxia teleconferences, contact Dr. Thomas Armitage, Designated Federal Officer (DFO), by telephone at (202) 343-9995, fax at (202) 233-0643, or e-mail at armitage.thomas@epa.gov.

(2) For the SAB Hypoxia Advisory Panel Subgroup 2—Characterization of Nutrient Fate, Transport, and Sources teleconferences, contact Mr. David Wangsness, DFO, by telephone at (202) 343-9975, fax at (202) 233-0643, or e-mail at wangsness.david@epa.gov.

(3) For the Hypoxia Advisory Panel Subgroup 3—Scientific Basis for Goals and Management Options SAB teleconferences, contact Dr. Holly Stallworth, DFO, by telephone at (202) 343-9867, fax at (202) 233-0643, or e-mail at stallworth.holly@epa.gov. General information about the SAB, as well as any updates concerning the teleconferences announced in this notice, may be found on the SAB Web site at: http://www.epa.gov/sab.

SUPPLEMENTARY INFORMATION: Pursuant to the Federal Advisory Committee Act, Public Law 92-463, notice is hereby given that the SAB Hypoxia Advisory Panel will hold seven public teleconferences to allow its three subgroups to develop issues related to advancements in the state of the science regarding hypoxia in the Northern Gulf of Mexico. Issues resulting from the public teleconferences will be further discussed by the entire SAB Hypoxia Advisory Panel at a future public meeting to be announced in a separate Federal Register notice. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background

EPA participates with other Federal agencies, state and tribes in the Mississippi River/Gulf of Mexico Watershed Nutrient Task Force. In 2001, the Task Force released the Action Plan for Reducing, Mitigating and Controlling Hypoxia in the Northern Gulf of Mexico (or Action Plan available at http://www.epa.gov/msbasin/taskforce/actionplan.htm). The Action Plan was informed by the science described in An Integrated Assessment of Hypoxia in the Northern Gulf of Mexico (or Integrated Assessment (available at http://www.noaa.gov/products/hypox_finalfront.pdf) developed by the National Science and Technology Council, Committee on Environment and Natural Resources. Six technical reports provided the scientific foundation for the Integrated Assessment and are available at http.//www.nos.noaa.gov/products/pub_hypox.html. The aforementioned documents provide a comprehensive summary of the state-of-the-science for the Gulf of Mexico hypoxic zone to about the year 2000.

EPA's Office of Water has requested that the SAB develop a report that evaluates the state-of-the-science regarding the causes and extent of hypoxia in the Gulf of Mexico, as well as the scientific basis of possible management options in the Mississippi River Basin. The SAB is asked to focus on scientific advances since 2000 that may have increased scientific understanding and control options in three general areas.

1. Characterization the Cause(s) of Hypoxia. The physical, biological and chemical processes that affect the development, persistence and extent of hypoxia in the northern Gulf of Mexico.

2. Characterization of Nutrient Fate, Transport and Sources. Nutrient loadings, fate, transport and sources in the Mississippi River that impact Gulf hypoxia.

3. Scientific Basis for Goals and Management Options. The scientific basis for, and recommended revisions to, the goals proposed in the Action Plan; and the scientific basis for the efficacy of recommended management actions to reduce nutrient flux from point and nonpoint sources.

In response to EPA's request, the SAB Staff Office has formed the SAB Hypoxia Advisory Panel. Background on the Panel formation process was provided in a Federal Register notice published on February 17, 2006 (71 FR 8578-8580). Background for the first meeting of the SAB Hypoxia Advisory Panel was announced in a Federal Register notice published on August 9, 2006 (71 FR 45543-45544). At its first meeting on September 6-7, 2006 the Panel organized itself into three subgroups corresponding to the three general areas described above. General information about the SAB Hypoxia Advisory Panel, as well as any updates concerning the teleconferences announced in this notice, may be found on the SAB Web site at: http://www.epa.gov/sab.

Availability of Meeting Materials: Pursuant to the Federal Advisory Committee Act, Public Law 92-463, notice is hereby given that the SAB Hypoxia Advisory Panel Subgroups will hold the seven public teleconferences on the dates and times provided above. Rosters of the SAB Hypoxia Advisory Panel, their biosketches, and the teleconference agendas will be posted on the SAB Web site http://www.epa.gov/sab prior to the teleconference.

Procedures for Providing Public Input: The SAB Staff Office accepts written public statements of any length, and accommodates oral public statements whenever possible. The SAB Staff Office expects that public statements presented at SAB meetings will not repeat previously submitted oral or written statements. Oral Statements: In general, individuals or groups requesting an oral presentation at a teleconference meeting will usually be limited to three minutes per speaker with no more than a total of fifteen minutes for all speakers. Interested parties should contact the appropriate DFO at the contact information provided above in writing via e-mail at least 10 days prior to the scheduled teleconference to be placed on the public speaker list for the teleconference. Speakers should provide an electronic copy of their statements to the DFO for distribution to interested parties and participants in the meeting. Written Statements: Written statements should be received in the SAB Staff Office at least seven days before scheduled teleconference so that the statements may be made available to the Panel for their consideration. Statements should be supplied to the appropriate DFO at the address and contact information provided above in the following formats: One hard copy with original signature, and one electronic copy via e-mail (acceptable file format: Adobe Acrobat, WordPerfect, Word, or Rich Text files in IBM-PC/Windows 98/2000/XP format).

Meeting Accommodations: Individuals requiring special accommodation to access the teleconference should contact the appropriate DFO at the phone number or e-mail address noted above at least five business days prior to the meeting so that appropriate arrangements can be made.

Dated: September 15, 2006.
Anthony F. Maciorowski,
Associate Director for Science, EPA Science Advisory Board Staff Office.

[FR Doc. 06-8177 Filed 9-22-06; 8:45 am]

BILLING CODE 6560-50-P